DEPARTMENT OF HEALTH AND HUMAN SERVICES

Food and Drug Administration

[Docket No. FDA-2023-N-1053]

Agency Information Collection Activities; Submission for Office of Management and Budget Review; Comment Request; Customer/Partner Service Satisfaction Surveys

AGENCY: Food and Drug Administration, HHS.

ACTION: Notice.

SUMMARY: The Food and Drug Administration (FDA or Agency) is announcing that a proposed collection of information has been submitted to the Office of Management and Budget (OMB) for review and clearance under the Paperwork Reduction Act of 1995.

DATES: Submit written comments (including recommendations) on the collection of information by September 29, 2023.

ADDRESSES: To ensure that comments on the information collection are received, OMB recommends that written comments be submitted to https://www.reginfo.gov/public/do/PRAMain. Find this particular information collection by selecting “Currently under Review—Open for Public Comments” or by using the search function. The OMB control number for this information collection is 0910-0360. Also include the FDA docket number found in brackets in the heading of this document.

FOR FURTHER INFORMATION CONTACT: JonnaLynn Capezzuto, Office of Operations, Food and Drug Administration, Three White Flint North, 10A-12M, 11601 Landsdown St., North Bethesda, MD 20852, 301-796-3794, PRAStaff@fda.hhs.gov.

SUPPLEMENTARY INFORMATION: In compliance with 44 U.S.C. 3507, FDA has submitted the following proposed collection of information to OMB for review and clearance.

Customer/Partner Service Satisfaction Surveys

OMB Control Number 0910-0360—Extension

Under section 1003 of the Federal Food, Drug, and Cosmetic Act (21 U.S.C. 393), FDA is authorized to conduct research and public information programs about regulated products and responsibilities of the Agency. Executive Order 12862, entitled “Setting Customer Service Standard,” directs Federal Agencies that “provide significant services directly to the public” to “survey customers to determine the kind and quality of services they want and their level of satisfaction with existing services.” FDA is seeking to extend OMB approval to conduct customer service satisfaction surveys to implement Executive Order 12862. Participation in the surveys is voluntary. This request covers customer/partner (including State and local governments) service satisfaction surveys of regulated entities, such as food processors; cosmetic, drug, biologic, and medical device manufacturers; animal drugs, animal food and feed; tobacco products; and consumers and health professionals.

FDA will use the information from these surveys to identify strengths and weaknesses in service to customers/partners and to make improvements. The surveys will measure timeliness, appropriateness, clarity, and accuracy of information, courtesy, and problem resolution in the context of individual programs.

FDA estimates conducting approximately 20 customer/partner service satisfaction surveys per year, each requiring an average of 25 minutes for review and completion. We estimate respondents to these surveys to be between 100 and 20,000 customers/partners. Some of these surveys will be repeats of earlier surveys for purposes of monitoring customer/partner service and developing long-term data. Respondents to this collection of information cover a broad range of stakeholders who have experience with certain products regulated by or services provided by FDA.

In the Federal Register of April 25, 2023 (88 FR 24992), FDA published a 60-day notice requesting public comment on the proposed collection of information. One comment was received in support of this information collection.

FDA estimates the burden of this collection of information as follows:

Table 1—Estimated Annual Reporting Burden ¹
Activity | Number of respondents | Number of responses per respondent | Total annual responses | Average burden per response | Total hours
Mail, telephone, web-based survey | 85,000 | 1 | 85,000 | 0.42 (25 minutes) | 35,700
¹ There are no capital costs or operating and maintenance costs associated with this collection of information.

Since the last OMB approval of this information collection request, FDA submitted three requests to increase the total burden hours. Therefore, this request for extension of OMB approval adjusts the number of respondents by an increase of 30,000 and the total burden hours by an increase of 21,950.

Dated: August 24, 2023.
Lauren K. Roth,
Associate Commissioner for Policy.

[FR Doc. 2023-18635 Filed 8-29-23; 8:45 am]

BILLING CODE 4164-01-P